DEPARTMENT OF ENERGY

Federal Energy Regulatory Commission

[Docket No. CP18-46-000]

Adelphia Gateway, LLC; Notice of Request for Extension of Time

Take notice that on November 1, 2021, Adelphia Gateway, LLC (Adelphia) requested that the Federal Energy Regulatory Commission (Commission) grant an extension of time, until June 20, 2023, in order to construct and place into service the facilities authorized by the Federal Energy Regulatory Commission in the above-referenced proceeding into service, in Delaware and Pennsylvania, as authorized as part of Adelphia's Project in the December 20, 2019 Order Issuing Certificate ¹ (December 20 Order). The December 20 Order required Adelphia to complete construction and make the facilities available for service within two years of the order date.

¹ Adelphia Gateway, LLC, 169 FERC ¶ 61,220 (2019).

While Adelphia has already constructed a significant number of the Project facilities and made substantial progress towards the completion of others, Adelphia states that it has been delayed in completing construction due to circumstances outside of its control. Shortly after Adelphia's receipt of its Certificate Order, Adelphia states that the COVID-19 pandemic had immediate and substantial impacts on its ability to timely obtain its remaining state environmental permits and progress construction of the Adelphia Project. Adelphia's requests for notices to proceed with construction were directly delayed as a result. Adelphia also had to cease construction activities on numerous occasions as a result of pandemic-related protocols. Furthermore, Adelphia states that the continuing impacts on the supply chain resulting from the COVID-19 pandemic have caused and continue to cause delays in the procurement and delivery of essential equipment and material. Thus, Adelphia requests an extension to construct and place into service the Adelphia Project until June 20, 2023.

This notice establishes a 15-calendar day intervention and comment period deadline. Any person wishing to comment on Adelphia's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).²

² Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on all of those extension requests that are uncontested.

³ Contested proceedings are those where an intervenor disputes any material issue of the filing. 18 CFR 385.2201(c)(1) (2019).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on November 18, 2021.

Dated: November 3, 2021.
Kimberly D. Bose,
Secretary.

[FR Doc. 2021-24474 Filed 11-8-21; 8:45 am]

BILLING CODE 6717-01-P